DEPARTMENT OF ENERGY

Federal Energy Regulatory Commission

Combined Notice of Filings

Take notice that the Commission has received the following Natural Gas Pipeline Rate and Refund Report filings:

Filings Instituting Proceedings

Docket Number: PR16-50-000.

Applicants: Pacific Gas and Electric Company.

Description: Tariff filing per 284.123(e)/.224: Revisions to Statement of Operating Conditions to be effective 4/1/2016; Filing Type: 770.

Filed Date: 4/26/2016.

Accession Number: 201604265162.

Comments/Protests Due: 5 p.m. ET 5/17/16.

Docket Numbers: RP16-876-000.

Applicants: Rockies Express Pipeline LLC.

Description: Section 4(d) Rate Filing: Neg Rate 2016-04-27 Encana, CP to be effective 5/1/2016.

Filed Date: 4/27/16.

Accession Number: 20160427-5150.

Comments Due: 5 p.m. ET 5/9/16.

Docket Numbers: RP16-877-000.

Applicants: ANR Storage Company.

Description: Petition to Amend Settlement and Motion for Shortened Answer and Expedited Action under RP16-877.

Filed Date: 4/26/16.

Accession Number: 20160426-5333.

Comments Due: 5 p.m. ET 5/3/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-501-002.

Applicants: High Point Gas Transmission, LLC.

Description: Compliance filing Compliance with NAESB Order to be effective 4/1/2016.

Filed Date: 4/27/16.

Accession Number: 20160427-5143.

Comments Due: 5 p.m. ET 5/9/16.

Docket Numbers: RP16-857-001.

Applicants: Eastern Shore Natural Gas Company.

Description: Compliance filing Amended Order On Compliance Order to be effective 4/1/2016.

Filed Date: 4/27/16.

Accession Number: 20160427-5267.

Comments Due: 5 p.m. ET 5/9/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2016.
Kimberly D. Bose,
Secretary.

[FR Doc. 2016-10904 Filed 5-9-16; 8:45 am]

BILLING CODE 6717-01-P